DEPARTMENT OF HOMELAND SECURITY

Coast Guard

33 CFR Part 100

[Docket No. USCG-2016-0700]

Special Local Regulations; S.P.O.R.T. Boat Races, Sabine River, Orange, TX

AGENCY: Coast Guard, DHS.

ACTION: Notice of enforcement of regulation.

SUMMARY: The Coast Guard will enforce special local regulations for the Southern Professional Outboard Racing Tour (S.P.O.R.T.) boat races to be held on the Sabine River in Orange, TX, September 16-18, 2016, to provide for the safety of life on navigable waterways during high speed boat races. Our regulation for Recurring Marine Events in Sector Houston-Galveston identifies the regulated area for this regatta. During the enforcement periods, no vessel may transit this regulated area without approval from the Captain of the Port or a designated representative.

DATES: The regulations in 33 CFR 100.801, Table 3, Line no. 5, will be enforced from 3:00 p.m. to 6:00 p.m. on September 16, 2016; and from 9:00 a.m. to 6:00 p.m. on September 17 and 18, 2016.

FOR FURTHER INFORMATION CONTACT: If you have questions about this notice of enforcement, call or email Mr. Scott Whalen, U.S. Coast Guard Marine Safety Unit, Port Arthur, TX; telephone 409-719-5086, email scott.k.whalen@uscg.mil.

SUPPLEMENTARY INFORMATION: The Coast Guard will enforce special local regulations in 33 CFR 100.801, Table 3, Line no. 5 from 3:00 p.m. until 6:00 p.m. on September 16, 2016, and from 9:00 a.m. until 6:00 p.m. on September 17 and 18, 2016, for the Southern Professional Outboard Racing Tour (S.P.O.R.T.) boat races. This action is being taken to provide for the safety of life on navigable waterways during the high speed boat races. Our regulation for Recurring Marine Events in Sector Houston-Galveston, § 100.801, Table 3, Line no. 5, specifies the location of the regulated area for this event. As specified in § 100.801, during the enforcement period, no vessel may transit this regulated area without approval from the Captain of the Port (COTP), Port Arthur or a COTP designated representative.

This notice of enforcement is issued under authority of 33 CFR 100.801 and 5 U.S.C. 552(a). In addition to this notice of enforcement in the Federal Register, the Coast Guard plans to provide notification of this enforcement period via the Local Notice to Mariners, marine information broadcasts, Marine Safety Information Bulletins and Vessel Traffic Service (VTS) Advisories.

Dated: August 16, 2016.
R.S. Ogrydziak,
Captain, U.S. Coast Guard, Captain of the Port, Port Arthur.

[FR Doc. 2016-19831 Filed 8-18-16; 8:45 am]

BILLING CODE 9110-04-P